COMMITTEE FOR PURCHASE FROM PEOPLE WHO ARE BLIND OR SEVERELY DISABLED

Procurement List; Proposed Deletions

AGENCY: Committee for Purchase From People Who Are Blind or Severely Disabled.

ACTION: Proposed Deletions From Procurement List.

SUMMARY: The Committee is proposing to add to the Procurement List products to be furnished by nonprofit agencies employing persons who are blind or have other severe disabilities, and to delete products previously furnished by such agencies.

Comments Must Be Received on or Before: 12/21/2008.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Sheet, Bed, Disposable

NSN: 7210-00-139-6376—Sheet, Bed, Disposable.

NPA: East Texas Lighthouse for the Blind, Tyler, TX.

Contracting Activity: DEFENSE SUPPLY CENTER PHILADELPHIA, PHILADELPHIA, PA.

Disinfectant-Detergent, General Purpose

NSN: 6840-00-935-9813—Disinfectant-Detergent, General Purpose.

NPA: Lighthouse for the Blind, St. Louis, MO.

Contracting Activity: GSA/FAS SOUTHWEST SUPPLY CENTER (QSDAC), FORT WORTH, TX.

Disinfectant-Detergent, General Purpose

NSN: 6840-00-926-1686—Disinfectant-Detergent, General Purpose

NPA: Lighthouse for the Blind, St. Louis, MO.

Contracting Activity: GSA/FAS SOUTHWEST SUPPLY CENTER (QSDAC), FORT WORTH, TX.

Tray, Desk, Plastic

NSN: 7520-01-466-0484—Tray, Desk, Plastic.

NPA: L.C. Industries For The Blind, Inc., Durham, NC.

Contracting Activity: GSA/FSS OFC SUP CTR—PAPER PRODUCTS, NEW YORK, NY.

Binder, Loose-leaf, (Pressboard)

NSN: 7510-01-510-4867—Binder, Loose-leaf, (Pressboard).

NSN: 7510-01-510-4862—Binder, Loose-leaf, (Pressboard).

NSN: 7510-01-510-4863—Binder, Loose-leaf, (Pressboard).

NSN: 7510-01-510-4861—Binder, Loose-leaf, (Pressboard).

NSN: 7510-01-510-4872—Binder, Loose-leaf, (Pressboard).

NSN: 7510-01-510-4864—Binder, Loose-leaf, (Pressboard).

NSN: 7510-01-510-4868—Binder, Loose-leaf, (Pressboard).

NSN: 7510-01-510-4870—Binder, Loose-leaf, (Pressboard).

NPA: Georgia Industries for the Blind, Bainbridge, GA.

Contracting Activity: GSA/FSS OFC SUP CTR—PAPER PRODUCTS, NEW YORK, NY.

Patricia Briscoe,
Lead, Pricing and Information Management.

[FR Doc. E8-27651 Filed 11-20-08; 8:45 am]

BILLING CODE 6353-01-P